DEPARTMENT OF THE INTERIOR

Fish and Wildlife Service

[Docket No. FWS-HQ-IA-2020-0099; FXIA16710900000-201-FF09A30000]

Foreign Endangered Species; Marine Mammals; Receipt of Permit Applications

AGENCY: Fish and Wildlife Service, Interior.

ACTION: Notice of receipt of permit applications; request for comments.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for any activity otherwise prohibited by the ESA or MMPA with respect to any endangered species or marine mammals.

DATES: We must receive comments by October 23, 2020.

ADDRESSES:

Obtaining Documents: The applications, application supporting materials, and any comments and other materials that we receive will be available for public inspection at http://www.regulations.gov in Docket No. FWS-HQ-IA-2020-0099.

Submitting Comments: When submitting comments, please specify the name of the applicant and the permit number at the beginning of your comment. You may submit comments by one of the following methods:

• Internet: http://www.regulations.gov. Search for and submit comments on Docket No. FWS-HQ-IA-2020-0099.

• U.S. mail or hand-delivery: Public Comments Processing, Attn: Docket No. FWS-HQ-IA-2020-0099; U.S. Fish and Wildlife Service Headquarters, MS: PRB/3W; 5275 Leesburg Pike, Falls Church, VA 22041-3803.

For more information, see Public Comment Procedures under SUPPLEMENTARY INFORMATION.

FOR FURTHER INFORMATION CONTACT: Brenda Tapia, by phone at 703-358-2185, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17. Service regulations regarding permits for any activity otherwise prohibited by the MMPA with respect to any marine mammals are available in title 50 of the Code of Federal Regulations in part 18. Concurrent with publishing this notice in the Federal Register, we are forwarding copies of the marine mammal applications to the Marine Mammal Commission and the Committee of Scientific Advisors for their review.

III. Permit Applications

We invite comments on the following applications.

A. Endangered Species

Applicant: Animal Ark Wildlife Sanctuary, Reno NV, Permit No. 69790D

The applicant requests a permit to purchase three male captive-born cheetahs (Acinonyx jubatus) in interstate commerce from Tanganyika Wildlife Foundation, Goddard, KS, for the purpose of enhancing the propagation or survival of the species. This notification is for a single interstate commerce activity.

Applicant: National Museum of Natural History, Smithsonian Institution, Washington, DC; Permit No. 56444D

The applicant requests a permit to import biological samples derived from wild Amsterdam albatross (Diomedea amsterdamensis), band-rumped storm-petrel (Oceanodroma castro), Fiji petrel (Pseudobulweria macgillivrayi), Mascarene black petrel (Pterodroma aterrima), cahow (Pterodroma cahow), and Madeira petrel (Pterodroma madeira), taken in multiple locations, for the purpose of scientific research. This notification is for a single import.

Applicant: Maryland Zoo in Baltimore, Baltimore, MD; Permit No. 70028D

The applicant requests a permit to import biological samples derived from one wild maned wolf (Chrysocyon brachyurus), taken in Noel Kempff Mercado National Park, Bolivia, for the purpose of scientific research. This notification is for a single import.

Applicant: Sam Noble Oklahoma Museum of Natural History, Norman, OK; Permit No. 075249

The applicant requests authorization to export and reimport nonliving museum specimens of endangered species previously accessioned into the applicant's collection for scientific research. This notification covers activities to be conducted by the applicant over a 5-year period.

Applicant: Project Survival, Dunlap, CA; Permit No. 71734D

The applicant requests a permit to import one male and one female captive-born cheetah (Acinonyx jubatus) from Cango Wildlife Ranch, Oudtshoorn, South Africa, for the purpose of enhancing the propagation or survival of the species. This notification is for a single import.

Applicant: Saint Louis Zoo, Saint Louis, MO; Permit No. 62698C

The applicant requests a renewal of a permit to import blood and swab samples from the Galapagos tortoise (Geochelone nigra), from three locations in the Galapagos Islands, Ecuador, for scientific research. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

Applicant: Gary Bourn, Bennett, CO; Permit No. 79873D

Applicant: Debra Mathews, Frenchtown, MT; Permit No. 80624D

B. Endangered Marine Mammals and Marine Mammals

Applicant: Charlie Hamilton James, Jackson, WY; Permit No. 37946D

The applicant requests a permit to photograph and film Southern sea otters (Enhydra lutris nereis) along the coast of California, for the purpose of commercial educational photography. This notification covers activities to be conducted by the applicant over a 1-year period.

Applicant: Charlie Hamilton James, Jackson, WY; Permit No. 37058D

The applicant requests a permit to photograph and film Northern sea otters (Enhydra lutrls kenyoni), for up to 28 days, in Alaska, for the purpose of educational photography. This species is not listed under the ESA. This notification covers activities to be conducted by the applicant over a 1-year period.

C. Wild Bird Conservation Act

The public is invited to comment on the following application for approval to conduct certain activities with a bird species covered under the Wild Bird Conservation Act of 1992 (16 U.S.C. 4901-4916). This notice is provided pursuant to section 112(4) of the Wild Bird Conservation Act of 1992 (50 CFR 15.26(c)).

Applicant: Gregory P. Sercel, Pasadena, CA; Permit No. 76644D

The applicant wishes to establish a cooperative breeding program for collared lory (Phigys solitarius), blue-crowned lorikeet (Vini australis), and cardinal lorry (Chalcopsitta cardinalis), importing to the United States 48 birds (16 of each species) currently held in facilities in captive breeding facilities in the Czech Republic, Italy, Germany, and Spain. The applicant wishes to be an active participant in this program, along with Christine Touchton (Lecanto, Florida), Charles Hawke (Portland, Oregon), and Jordan Berber (Atwater, California). If approved, the program will be overseen by the Organization of Professional Aviculturists, San Dimas, California.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Brenda Tapia,
Management Analyst/Program Analyst, Branch of Permits, Division of Management Authority.

[FR Doc. 2020-20978 Filed 9-22-20; 8:45 am]

BILLING CODE 4333-15-P